DEPARTMENT OF THE INTERIOR

Fish and Wildlife Service

[FWS-HQ-ES-2019-N020; FXES11140900000-190-FF09E33000]

Notice of Intent To Prepare Environmental Impact Statements; Withdrawal

AGENCY: Fish and Wildlife Service, Interior.

ACTION: Notice of withdrawal.

SUMMARY: We, the U.S. Fish and Wildlife Service, are issuing this Federal Register notice to advise Federal, State, and local government agencies and the public that we are withdrawing 12 notices of intent to prepare draft environmental impact statements. These projects have been cancelled or no longer include Federal actions requiring analysis per the National Environmental Policy Act.

DATES: The notices of intent are withdrawn as of June 14, 2019.

FOR FURTHER INFORMATION CONTACT: Craig Aubrey, Chief, Division of Environmental Review, at Craig_Aubrey@fws.gov or 703-358-2442. Hearing or speech impaired individuals may call the Federal Relay Service at 800-877-8339 for TTY assistance.

SUPPLEMENTARY INFORMATION: We, the U.S. Fish and Wildlife Service (Service), published 12 notices of intent (NOIs) in the Federal Register to prepare environmental impact statements (EISs) in accordance with the Endangered Species Act of 1973, as amended (ESA; 15 U.S.C. 1531 et seq.) and the National Environmental Policy Act of 1969 (NEPA; 42 U.S.C. 4321 et seq.), to analyze the impacts on the human environment of the proposed actions listed below. These projects have been cancelled or no longer include Federal actions. Details of the proposed actions are included within the originally published notices of intent, which can be found by using the publication dates, citations, and links in the table below.

Original Federal Register notice publication date | Federal Register publication citation and direct link | Federal Register notice subject and original agency docket number
10/4/2006 | 71 FR 62251— https://www.federalregister.gov/documents/2006/10/24/06-8860/notice-of-intent-to-conduct-public-scoping-and-to-prepare-an-environmental-impact-statement-related | Notice of Intent to Conduct Public Scoping and Prepare an Environmental Impact Statement Related to the Washington Department of Natural Resources Aquatic Lands Habitat Conservation Plan [I.D. 092706C].
5/28/2010 | 75 FR 30057— https://www.federalregister.gov/documents/2010/05/28/2010-12906/proposed-issuance-of-an-incidental-take-permit-to-energy-northwest-for-construction-and-operation-of | Notice of Intent to Conduct 30-day Public Scoping Period and Prepare an Environmental Impact Statement; Proposed Issuance of an Incidental Take Permit to Energy Northwest for Construction and Operation of the Radar Ridge Wind Project LLC [FWS-R1-ES-2010-N098].
10/01/2010 | 75 FR 60735— https://www.federalregister.gov/documents/2010/10/01/2010-24692/proposed-issuance-of-incidental-take-permits-to-the-washington-department-of-fish-and-wildlife-for | Notice of Intent to Conduct a 30-day Public Scoping Period and Prepare an Environmental Impact Statement; Proposed Issuance of Incidental Take Permits to the Washington Department of Fish and Wildlife for State of Washington Wildlife Areas [RIN 0648-XY95].
12/16/2011 | 76 FR 78309— https://www.federalregister.gov/documents/2011/12/16/2011-32222/hawaiian-and-pacific-islands-national-wildlife-refuge-complex-wilderness-review-and-legislative | Notice of Intent; Request for Comments; Hawaiian and Pacific Islands National Wildlife Refuge Complex; Wilderness Review and Legislative Environmental Impact Statement [FWS-R1-R-2011-N091].
2/10/2012 | 77 FR 7172— https://www.federalregister.gov/documents/2012/02/10/2012-3107/sequoyah-national-wildlife-refuge-sequoyah-muskogee-and-haskell-counties-ok-comprehensive | Notice of Intent; Request for Comments; Sequoyah National Wildlife Refuge, Sequoyah, Muskogee, and Haskell Counties, OK; Comprehensive Conservation Plan and Environmental Impact Statement [FWS-R2-R-2011-N179].
2/1/2013 | 78 FR 7445— https://www.federalregister.gov/documents/2013/02/01/2013-02256/notice-of-intent-to-prepare-a-draft-environmental-impact-statement-for-a-general-conservation-plan | Notice of Intent to Prepare a Draft Environmental Impact Statement for a General Conservation Plan for the American Burying Beetle for Pipelines and Well Field Development in Oklahoma and Texas [FWS-R2-ES-2012-N271].
2/7/2014 | 79 FR 7472— https://www.federalregister.gov/documents/2014/02/07/2014-02637/notice-of-intent-to-prepare-an-environmental-impact-statement-for-a-habitat-conservation-plan-for | Notice of Intent to Prepare an Environmental Impact Statement for a Habitat Conservation Plan for Commercial Developments, Including Energy Developments, and Agricultural and Conservation Activities Within Six States [Docket No. FWS-R2-ES-2013-0134].
12/15/2014 | 79 FR 74107— https://www.federalregister.gov/documents/2014/12/15/2014-29255/proposed-habitat-conservation-plannatural-community-conservation-plan-for-the-counties-of-yuba-and | Notice of Intent; Notice of Public Scoping Meeting; Request for Comments; Proposed Habitat Conservation Plan/Natural Community Conservation Plan for the Counties of Yuba and Sutter, CA; Scoping for Environmental Impact Statement [FWS-R8-ES-2014-N209].
6/12/2015 | 80 FR 33537— https://www.federalregister.gov/documents/2015/06/12/2015-14408/draft-environmental-impact-statement-for-the-proposed-midwest-wind-energy-multi-species-habitat | Notice of Intent to Prepare an Environmental Impact Statement; Notice of Scoping Meeting and Request for Comments; Draft Environmental Impact Statement for the Proposed Midwest Wind Energy Multi-Species Habitat Conservation Plan [Docket No. FWS-R3-ES-2015-0033].
6/30/2015 | 80 FR 37286— https://www.federalregister.gov/documents/2015/06/30/2015-16152/notice-of-intent-to-prepare-a-programmatic-draft-environmental-impact-statement-for-invasive-rodent | Notice of Intent to Prepare a Programmatic Environmental Impact Statement for Invasive Rodent and Mongoose Control and Eradication on U.S. Pacific Islands Within the National Wildlife Refuge System and in Native Ecosystems in Hawaii [FWS-R1-ES-2015-0026].
6/20/2016 | 81 FR 39949— https://www.federalregister.gov/documents/2016/06/20/2016-14565/south-bay-salt-pond-restoration-project-phase-2-at-the-eden-landing-ecological-reserve-intent-to | Notice of Intent; Announcement of Meeting; Request for Public Comments; South Bay Salt Pond Restoration Project, Phase 2 at the Eden Landing Ecological Reserve; Intent to Prepare an Environmental Impact Statement/Environmental Impact Report [FWS-R8-R-2016-N061].
7/13/2016 | 81 FR 45296— https://www.federalregister.gov/documents/2016/07/13/2016-16543/mandtllano-seco-fish-screen-facility-long-term-protection-project-notice-of-intent-for-environmental | Notice of Intent; Notice of Public Scoping Meetings; Request for Comments; M&T/Llano Seco Fish Screen Facility Long-Term Protection Project; Notice of Intent for Environmental Impact Statement [FWS-R8-R-2016-N096].

Authorities

We provide this notice in accordance with the requirements of NEPA, as amended (42 U.S.C. 4321 et seq.), its implementing regulations set forth by the Council on Environmental Quality (40 CFR 1500 et seq.), the Department of Interior's NEPA implementing regulations (43 CFR part 46) and other appropriate Federal laws, namely the requirements of section 10 of the ESA, regulations, and administrative materials.

Dated: May 3, 2019.
Gary Frazer,
Assistant Director for Ecological Services.

[FR Doc. 2019-12627 Filed 6-13-19; 8:45 am]

BILLING CODE 4333-15-P